DEPARTMENT OF HEALTH AND HUMAN SERVICES

Centers for Disease Control and Prevention

Disease, Disability, and Injury Prevention and Control Special Emphasis Panels (SEP): Pregnancy Risk Assessment Monitoring System, Request for Applications DP-06-002

In accordance with section 10(a)(2) of the Federal Advisory Committee Act (Pub. L. 92-463), the Centers for Disease Control and Prevention (CDC) announces the following meeting:

Name: Disease, Disability, and Injury Prevention and Control Special Emphasis Panel (SEP): Pregnancy Risk Assessment Monitoring System, Request for Applications DP-06-002.

Times and Dates: 3 p.m.-7:30 p.m., February 15, 2006 (Closed). 8 a.m.-5 p.m., February 16, 2006 (Closed). 8 a.m.-3 p.m., February 17, 2006 (Closed).

Place: Sheraton Colony Square Hotel, 188 14th Street, NE., Atlanta, GA 30361, Telephone Number (404) 892-6000.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of applications received in response to: Pregnancy Risk Assessment Monitoring System, Request for Applications DP-06-002.

For Further Information Contact: J. Felix Rogers, PhD, MPH, Scientific Review Administrator, CDC, 4770 Buford Highway, NE., Mailstop K-92, Atlanta, GA 30341, Telephone Number (770) 488-6521.

The Director, Management Analysis and Services Office, has been delegated the authority to sign Federal Register notices pertaining to announcements of meetings and other committee management activities, for both CDC and the Agency for Toxic Substances and Disease Registry.

Dated: January 13, 2006.
Alvin Hall,
Director, Management Analysis and Services Office, Centers for Disease Control and Prevention.

[FR Doc. E6-693 Filed 1-20-06; 8:45 am]

BILLING CODE 4163-18-P